DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 27, 2006. Interested persons are invited to submit written comments regarding the subject matter of the investigations to the Director, Division of Trade Adjustment Assistance, at the address shown below, not later than July 27, 2006.

The petitions filed in this case are available for inspection at the Office of the Director, Division of Trade Adjustment Assistance, Employment and Training Administration, U.S. Department of Labor, Room C-5311, 200 Constitution Avenue, NW., Washington, DC 20210.

Signed at Washington, DC, this 5th day of July 2006.
Erica R. Cantor,
Director, Division of Trade Adjustment Assistance.

Appendix
[TAA petitions instituted between 6/26/06 and 6/30/06]
TA-W | Subject firm (petitioners) | Location | Date of institution | Date of petition
59621 | Irving Tissue Inc (Comp) | Fort Edward, NY | 06/26/06 | 06/23/06
59622 | Gyrus ACMI Corporation (Comp) | Racine, WI | 06/26/06 | 06/22/06
59623 | Hexcel (State) | Livermore, CA | 06/26/06 | 06/14/06
59624 | Pintex Cutting Company (Comp) | Greenville, SC | 06/26/06 | 06/08/06
59625 | P.W. Minor and Son Inc. (Comp) | Batavia, NY | 06/26/06 | 06/14/06
59626 | Tower Automotive Products Co. Inc. (Union) | Milan, TN | 06/26/06 | 06/12/06
59627 | Liebert Corporation (UAW) | Irvine, CA | 06/26/06 | 06/20/06
59628 | New Venture Industries (UAW) | Grand Blanc, MI | 06/26/06 | 06/19/06
59629 | IPC Print Services (Wkrs) | Saint Joseph, MI | 06/26/06 | 06/13/06
59630 | Johnson Controls Inc. (UAW) | Oklahoma City, OK | 06/26/06 | 06/13/06
59631 | Moosehead Manufacturing Co. (State) | Monson & Dover Foxcroft, ME | 06/26/06 | 06/26/06
59632 | Light Master Systems Inc. (Wkrs) | Cupertino, CA | 06/26/06 | 06/07/06
59633 | Dancin Cowboy, Inc. (State) | Gonzales, TX | 06/26/06 | 06/22/06
59634 | Hi-Lite Industries Inc. (Wkrs) | Greensburg, PA | 06/27/06 | 06/26/06
59635 | Minnesota Rubber (USW) | Mason City, IA | 06/27/06 | 06/23/06
59636 | Larose Inc. (Comp) | New York, NY | 06/27/06 | 06/20/06
59637 | Lenovo USA (Wkrs) | Research Triangle Park, NC | 06/27/06 | 06/26/06
59638 | Schweitzer-Mauduit International Inc. (Comp) | Lee, MA | 06/27/06 | 06/26/06
59639 | Solectron, USA (Wkrs) | Charlotte, NC | 06/28/06 | 06/07/06
59640 | Armstrong World Industies Inc. (Wkrs) | Lancaster, PA | 06/28/06 | 06/27/06
59641 | Arizona Textiles (State) | Phoenix, AZ | 06/28/06 | 06/27/06
59642 | Fontaine International Inc. (Wkrs) | Calera, AL | 06/28/06 | 06/23/06
59643 | Graham Packaging (Wkrs) | Cincinnati, OH | 06/28/06 | 06/27/06
59644 | Quebecor World Kingsport (Union) | Kintsport, TN | 06/28/06 | 06/24/06
59645 | Metal Ware Corporation (IAMAW) | Two Rivers, WI | 06/28/06 | 06/20/06
59646 | Aircast (Comp) | Summit, NJ | 06/29/06 | 06/24/06
59647 | Rad Technologies (State) | Sun Valley, CA | 06/29/06 | 06/28/06
59648 | Adecco (Wkrs) | Ft. Madison, IA | 06/29/06 | 06/27/06
59649 | Rowe Furniture, Inc. (Wkrs) | Elliston, VA | 06/29/06 | 06/28/06
59650 | Pendleton Woolen Mills Inc. (Comp) | Bellevue, NE | 06/29/06 | 06/27/06
59651 | Superior Industries Int'l. Inc. (State) | Fayetteville, AR | 06/29/06 | 06/28/06
59652 | Stanton International (State) | Phoenix, AZ | 06/29/06 | 06/28/06
59653 | Utility Craft Inc. (Comp) | High Point, NC | 06/29/06 | 06/22/06
59654 | House of Perfection Inc. (Wkrs) | West Columbia, SC | 06/29/06 | 06/23/06
59655 | Boeing Company (UAW) | Long Beach, CA | 06/30/06 | 06/20/06
59656 | Nautilus Inc. (State) | Tyler, TX | 06/30/06 | 06/29/06
59657 | IH Services (Wkrs) | Greenville, SC | 06/30/06 | 06/29/06
59658 | Sanmina—SCI (Wkrs) | Durham, NC | 06/30/06 | 06/24/06
59659 | Jideco of Bardstown, Inc. (Comp) | Bardstown, KY | 06/30/06 | 06/09/06

[FR Doc. E6-11215 Filed 7-14-06; 8:45 am]

BILLING CODE 4510-30-P